DEPARTMENT OF ENERGY

Federal Energy Regulatory Commission

[Docket No. EL15-99-000]

Internal MISO Generation v. Midcontinent Independent System Operator, Inc.; Notice of Complaint

Take notice that on September 4, 2015, pursuant to sections 206 and 306 of the Federal Power Act (FPA), 16 U.S.C. 824(e) and 825(e) and Rules 206 and 212 of the Federal Energy Regulatory Commission's (Commission) Rules of Practice and Procedures, 18 CFR 385.206, and 18 CFR 385.212 (2015), Internal MISO Generation (Complainant) ¹ filed a complaint against Midcontinent Independent System Operator, Inc. (MISO or Respondent) and a motion for interim relief and Order No. 602-A. Complainant alleges that: (1) MISO's refusal to require generation external to MISO to pay the M2 Milestone Payment in order to be studied by MISO and (2) MISO's refusal to identify the terms and conditions that will be in the service agreement with external generation is unjust, unreasonable and unduly discriminatory and preferential, as more fully explained in the Complaint.

¹ “Internal MISO Generation” is comprised of EDF Renewable Energy, Inc., E.ON Climate & Renewables North America, LLC and Invenergy LLC.

Complainant certifies that a copy of the complaint and motion has been served on the contacts for the MISO as listed on the Commission's list of Corporate Officials on its Web site.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on September 24, 2015.

Dated: September 9, 2015.
Nathaniel J. Davis, Sr.,
Deputy Secretary.

[FR Doc. 2015-23182 Filed 9-15-15; 8:45 am]

BILLING CODE 6717-01-P